DEPARTMENT OF COMMERCE

International Trade Administration

[A-570-986; C-570-987]

Hardwood and Decorative Plywood From the People's Republic of China: Correction of Postponement of Final Determination of Antidumping Duty Investigation and Countervailing Duty Investigations and Extension of Provisional Measures

AGENCY: Import Administration, International Trade Administration, Department of Commerce.

DATES: Effective Date: June 11, 2013.

FOR FURTHER INFORMATION CONTACT: Catherine Bertrand at (202) 482-3207, AD/CVD Operations, Office 9, Import Administration, International Trade Administration, U.S. Department of Commerce, 14th Street and Constitution Avenue NW, Washington, DC 20230.

Correction of Postponement of Final Determination

On June 3, 2013, the Department of Commerce (“Department”) published the postponement of the final determination of the antidumping duty investigation of hardwood and decorative plywood from the People's Republic of China (“PRC”).¹ In that notice, the Department inadvertently extended the final determination by only 50 days, whereas Department had intended to fully postpone the final by 60 days. Therefore, the Department is now correcting that notice and fully extending the final determination in accordance with sections 733(d) and 735(a)(2)(A) of the Tariff Act of 1930, as amended (“the Act”) and 19 CFR 351.210(b)(2)(ii) and (e). Accordingly, we are postponing the final determination by 60 days. We are also extending the application of the provisional measures prescribed under section 733(d) of the Act and 19 CFR 351.210(e)(2) from a four month period to a six month period. In addition, because the countervailing duty investigation of hardwood and decorative plywood from the PRC has been aligned with the concurrent antidumping duty investigation under section 705(a)(1) of the Act, the time limit for completion of the final determination in the countervailing duty investigation will be the same date.² The final determination for both investigations therefore is September 16, 2013.³

¹ See Hardwood and Decorative Plywood from the People's Republic of China: Antidumping Duty Investigation; Correction and Postponement of Final Determination, 78 FR 33059 (June 3, 2013).

² See Hardwood and Decorative Plywood From the People's Republic of China: Amended Preliminary Countervailing Duty Determination; and Alignment of Final Determination With Final Antidumping Determination, 78 FR 16250 (March 14, 2013).

³ Day 60 falls on September 15, 2013, which is a Sunday. The Department's practice dictates that where a deadline falls on a weekend or federal holiday, the appropriate deadline is the next business day. See Notice of Clarification: Application of “Next Business Day” Rule for Administrative Determination Deadlines Pursuant to the Tariff Act of 1930, as Amended, 70 FR 24533, 24533 (May 10, 2005).

Dated: June 5, 2013.
Paul Piquado,
Assistant Secretary for Import Administration.

[FR Doc. 2013-13871 Filed 6-10-13; 8:45 am]

BILLING CODE 3510-DS-P